DEPARTMENT OF EDUCATION

[CFDA No: 84.215G]

Office of Vocational and Adult Education; High School Reform State Grants; Notice Inviting Applications for New Awards for Fiscal Year (FY) 2001

Note to Applicants: This notice is a complete application package. Together with the statute authorizing the program and the Education Department General Administrative Regulations (EDGAR), the notice contains all of the information, application forms, and instructions needed to apply for a grant under this competition.

Purpose of Program

The purpose of the High School Reform State Grants program is to provide funds to State educational agencies (SEAs) to support efforts to improve academic performance and provide technical skills training. States will in turn make competitive awards to local educational agencies (LEAs) on behalf of secondary schools or consortia of secondary schools, to support programs, activities, classes, and other services designed to assist secondary school students in attaining challenging, State-established academic and technical skill proficiencies. The Department of Education (the Department) fully expects that these funds will be used by local high schools in one of two ways: (1) To expand and build upon their own existing high school improvement strategies; or (2) to replicate other high schools' successful reform models, including such strategies and models that focus on school restructuring, curriculum and instruction redesign, and improving school climate. Further, the Department expects that funded strategies and models will build upon research-based practices proven effective in improving secondary school students' academic performance and expanding their opportunities for technical skills training.

Application, Deadline and Award Information

Eligible Applicants: State educational agencies who make sub-grants to local educational agencies on behalf of secondary schools or secondary school consortia. State educational agencies may also apply in consortia with one another.

Deadline for Transmittal of Applications: August 6, 2001.

Application Page Limits: The Secretary strongly encourages that an application's program narrative be limited to no more than 25 pages.

Deadline for Intergovernmental Review: September 18, 2001.

Available Funds: $5,000,000 for the 36-month project period.

Note: The administration is not requesting funding for this program in 2002.

Estimated Average Size of Awards: The estimated amount of each award made under this competition is $1,000,000 for each State project.

Estimated Number of Awards: No more than five awards will be made under this grant program.

Note: The Department is not bound by any estimates in this notice.

Project Period: 36 months.

Applicable Statute and Regulations

(a) The Department of Education's Appropriations Act, 2001, Title III of the Departments of Labor, Health and Human Services, and Education, and Related Agencies Appropriations Act, 2001, as enacted by section 1(1) of P.L. 106-[554], the Consolidated Appropriations Act, 2001.

(b) The Education Department General Administrative Regulations (EDGAR) in 34 CFR parts 75, 77, 79, 80, 81, 82, 85, 86, 97, 98, and 99.

SUPPLEMENTARY INFORMATION:

Background

No other American institution has a potentially greater impact on the quality of life for today's young people than that of the public high school. Youth entering the workforce without a high school diploma earn up to one-third less than their peers who complete high school. Among those who earn a diploma, only 50 percent go on to postsecondary education, and half of those students drop out by the end of the second year. The Department, as well as other public and private agencies, collects data annually documenting the reduced earning potential and increased incidence of poverty among young people who either lack a high school diploma, or who possess a diploma but have not acquired the necessary skills to move on to postsecondary education or the workplace.

Recognizing the obvious impact the high school experience can have on a young person, efforts at the Federal, State, and local levels have resulted in the implementation of a number of high school improvement strategies. Federally, the Department's Comprehensive School Reform Demonstration (CSRD) program, as well as the Office of Educational Research and Improvement's Model Design and Evaluation Contracts program, have funded the development of comprehensive school reform models for high schools. At the local level, magnet and charter schools initiatives have broken new ground in their ability to drive high school improvement based upon a community's as well as individual students' needs. These programs, as well as others, seek to ensure that research-based practices and methodologies proven successful at the high school level are widely replicated. Further, these programs recognize that success in the 21st century workplace will require advanced career and technical skills, including computer literacy.

Several States have targeted their school improvement initiatives specifically toward high schools by integrating Federal CSRD investments with their own high school reform investments. Others have enhanced their high school redesign efforts with improvement strategies promulgated by such models as High Schools That Work. For all States, the last five years have seen a dramatic increase in the attention toward high school academic assessments and exit examinations as means to measure the value of a student's high school experience.

Recognizing the emphasis at both the State and local levels on improving high schools, the Congress is making available five million dollars to States able to demonstrate their commitment to high school improvement by articulating specific strategies and activities proven effective in helping students meet rigorous academic and technical State standards.

Required Activities

(a) Under this competition, each State grantee will:

(1) Competitively award at least 90 percent of its total grant funds to LEAs on behalf of individual high schools or consortia; and

(2) Use the remaining grant funds for State-level activities aimed at replicating successful methodologies and practices and disseminating the lessons of the funded projects.

(b) Under this competition, each local sub-grantee will support programs, activities, classes, and other services designed to assist secondary school students in attaining challenging, State-established academic and technical skill proficiencies.

Grants awarded shall be used to carry out the following activities:

(1) Integration of academics with technical skills courses;

(2) Establishment of learning and technical skills centers within secondary schools; and

(3) Programs that support and implement innovative strategies such as independent study, school-based enterprises, and project-based learning.

The Department further requires that the minimum local award to an individual high school under this competition will be no less than $200,000, and that awards to high school consortia will be no less than $400,000.

Priorities

Competitive Priorities

The Secretary may award up to 10 additional points for applications that effectively address the following priorities.

Competitive Priority 1 (5 points)

Applications that identify the State's low-performing high schools, as defined under Title I, Part A, section 1116(c) of the Elementary and Secondary Education Act or State or local definitions, and include strategies for disseminating and replicating successful improvement methodologies and practices with those schools.

Competitive Priority 2 (5 points)

Applications that demonstrate the existing and future commitment of Federal, State and local level resources to fund high school improvement efforts.

Selection Criteria

The Secretary uses the following selection criteria to evaluate applications for new grants under this competition. The Secretary awards a total possible score of 100 points. The maximum score an applicant may receive is 110 points by effectively addressing the selection criteria and both competitive priorities. The maximum possible score for each criterion is indicated in parentheses following the criterion.

(1) Demonstration of Reform Readiness at the State's High Schools (40 Points)

(a) The proposal provides detailed evidence of specific school improvement strategies and existing working models that have been implemented at the high school level. Examples provided fully delineate the methodologies used and the measurements applied to determine effectiveness. (15 points)

(b) The proposal clearly articulates State- and locally-driven strategies that have proven effective in achieving such indicators of high school reform as:

(1) All students are expected to meet challenging, State-established academic standards that work toward the goal of preparing them for both college and careers;

(2) Academic standards are rigorous and are specifically tied to student outcomes;

(3) Learning occurs in safe, personalized environments;

(4) Teachers are provided with a range of professional development opportunities, including work-based experiences and technology training;

(5) Faculty ownership and effective principal leadership are key components in implementing specific school improvement strategies; and

(6) Individual teaching strategies are linked to school-wide improvement goals. (15 points)

(c) The proposal describes existing high school practices and models that have achieved success in integrating academics with technical skills courses; establishing learning and technical skill centers within their schools; and implementing such innovative strategies such as independent study via internships, school-based enterprises, and project-based learning. (10 points)

(2) State-level Activities (25 points)

The proposal provides a complete description of activities supported by the ten percent (maximum) of grant award expenditures to be made at the State level. This section includes how this project will be coordinated with ongoing high school improvement efforts already at work at the State level. It includes ways in which the State will use this project to improve the performance of low-performing high schools, such as partnering a high-performing school with a low-performing school, web-based dissemination strategies, and other innovative methods. The application delineates the State's plan to produce a final product documenting its successful high school improvement strategies. Further, it includes a commitment by the State to be involved in national activities aimed at widely disseminating the lessons of this grant initiative and working with other States or districts to assist them with their efforts at high school reform and improvement.

(3) Management Plan/Timeline (20 points)

(a) The proposal includes a description of how the project will be managed at the State level, including the distribution of sub-grants (not less than 90 percent of the total grant award) and the oversight of sub-grant activities. The proposal describes the process to be used to provide sub-grants, along with the criteria to be applied. (10 points)

(b) The proposal includes a timeline for the project, including dates and responsibilities for making awards to sub-grantees, along with a clear description of the overall project's progression and how grant activities will build upon one another in complexity and scope. (5 points)

(c) The proposal indicates other funding resources, including private sector resources as well as other Federal, State, and local level funds, that currently contribute to the high school improvement strategies identified in the proposal and that will further support such future efforts. At a minimum, the proposal indicates how the State's Federal resources are being aligned to support high school improvement. (5 points)

(4) Evaluation Plan (15 points)

The proposal describes the State's overall strategy for evaluating high school improvement efforts, including improving the academic performance of students and increasing their opportunities to receive technical skill training. It explains how this project will be evaluated, and how the results of that evaluation will fit into the State's overall plan for evaluating high school improvement efforts. Applications adequately addressing this criterion will outline the performance measures the State intends to use to evaluate efforts that either bring certain improvement strategies to scale or that replicate a model that has proven successful at another high school. This section should also commit the State to participating in a Department-sponsored evaluation of this grant investment. (Applicants should note the Performance Measures section in Appendix B of this notice.)

Intergovernmental Review of Federal Programs

This program is subject to the requirements of Executive Order 12372 (Intergovernmental Review of Federal Programs) and the regulations in 34 CFR part 79.

One of the objectives of the Executive order is to foster an intergovernmental partnership and to strengthen federalism by relying on State and local processes for State and local government coordination and review of proposed Federal financial assistance.

Applicants must contact the appropriate State Single Point of Contact to find out about, and to comply with, the State's process under Executive Order 12372. Applicants proposing to perform activities in more than one State should immediately contact the Single Point of Contact for each of those States and follow the procedures established in each State under the Executive order. If you want to know the name and address of any State Single Point of Contact (SPOC), or you may view the latest SPOC list on the OMB web site at the following address: http://www.whitehouse.gov/omb/grants.

In States that have not established a process or chosen a program for review, State, area-wide, regional, and local entities, may submit comments directly to the Department.

Any State Process Recommendation and other comments submitted by a State Single Point of Contact and any comments from State, area-wide, regional, and local entities must be mailed or hand-delivered by the date indicated in this notice to the following address: The Secretary, E.O. 12372-CFDA #84.215G, U.S. Department of Education, Room 7E200, Washington, DC 20202-0125.

Proof of mailing will be determined on the same basis as applications (see 34 CFR 75.102). Recommendations or comments may be hand-delivered until 4:30 p.m. (Eastern time) on the date indicated in this notice.

Note: Please note that the above address is not the same address as the one to which the applicant submits its completed application. Do not send applications to the above address.

Waiver of Rulemaking

It is the Secretary's practice, in accordance with the Administrative Procedure Act (5 U.S.C. section 553), to offer interested parties the opportunity to comment on proposed rules. Section 437(d)(1) of the General Education Provisions Act (GEPA) exempts from formal rulemaking requirements rules governing the first grant competition under a new or substantially revised program authority (20 U.S.C. section 1232(d)(1)). Funding for this new initiative was provided in the Department's fiscal year 2001 appropriations act. The Secretary, in accordance with section 437(d)(1) of GEPA, has decided to forego public comment in order to ensure timely grant awards.

Instructions for Transmittal of Applications

Applicants are required to submit one original signed application and three copies of the grant application. All forms and assurances must have ink signatures. Please mark applications as “original” or “copy.” To aid with the review of applications, the Department encourages applicants to submit three additional copies of the grant application. The Department will not penalize applicants who do not provide additional copies.

(a) If an applicant wants to apply for a grant under this process, the applicant must either—

(1) Mail the original and three copies of the application on or before the deadline date to: U.S. Department of Education, Application Control Center, Attention: (CFDA # 84.215G), Washington, DC 20202-4725, or

(2) Hand deliver the original and three copies of the application by 4:30 p.m. (Eastern time) on or before the deadline date to: U.S. Department of Education, Application Control Center, Attention: (CFDA #84.215G), Room #3633, Regional Office Building #3, 7th and D Streets, SW., Washington, DC.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Notes: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9494.

(3) The applicant must indicate on the envelope and—if not provided by the Department—in Item 10 of the Application for Federal Education Assistance (ED 424) the CFDA number—and suffix letter, if any—of the process under which the application is being submitted.

Application Instructions and Forms

All forms and instructions are included as Appendix D of this notice. Questions and answers pertaining to this program are included, as Appendix C, to assist potential applicants.

To apply for an award under this program, your application must be organized in the following order and include the following five parts. The parts and additional materials are as follows:

Part I: Application for Federal Education Assistance (ED 424 (Rev. 1/12/99)) and instructions.

Part II: Budget Information—Non-Construction Programs (ED Form No. 524) and instructions.

Part III: Budget Narrative.

Part IV: Program Narrative (see Appendix B).

Part V: Additional Assurances and Certifications:

a. Assurances—Non-Construction Programs (Standard Form 424B).

b. Certification regarding Lobbying, Debarment, Suspension, and Other Responsibility Matters; and Drug-Free Workplace Requirements (ED Form 80-0013) and instructions.

c. Certification regarding Debarment, Suspension, Ineligibility and Voluntary Exclusion: Lower Tier Covered Transactions (ED Form 80-0014, 9/90) and instructions.

Note: ED Form 80-0014 is intended for the use of grantees and should not be transmitted to the Department.

d. Disclosure of Lobbying Activities (Standard Form LLL, if applicable) and instructions.

No grant may be awarded unless a completed application form has been received.

FOR FURTHER INFORMATION CONTACT: Ms. Karen Stratman Clark, Office of Vocational and Adult Education, U.S. Department of Education, 400 Maryland Avenue, SW. (Mary E. Switzer Building, Room 5523), Washington, DC 20202-7241. Telephone (202) 205-3779. If you use a telecommunications device for the deaf (TDD), you may call the Federal Information Relay Service (FIRS) at 1-800-877-8339. Individuals with disabilities may obtain this notice in an alternative format (e.g., Braille, large print, audiotape, or computer diskette) on request to the contact persons listed at the beginning of this paragraph. Please note, however, that the Department is not able to reproduce in an alternative format the standard forms included in the notice.

Electronic Access to This Department

You may view this document, as well as all other Department of Education documents published in the Federal Register, in text or Adobe Portable Document Format (APDF) on the Internet at the following site: www.ed.gov/legislation/FedRegister.

To use PDF, you must have Adobe Acrobat Reader, which is available free at this site. If you have questions about using the PDF, call the U.S. Government Printing Office (GPO), toll free at 1-888-293-6498, or in the Washington, DC, area at (202) 512-1530.

Note: The official version of this document is the document published in the Federal Register. Free Internet access to the official version of the Federal Register and the Code of Federal Regulations is available on GPO access at: http://www.access.gpo.gov/nara/index.html.

Program Authority: 20 U.S.C. section 2328.

Dated: June 14, 2001.
Jon Weintraub,
Acting Deputy Assistant Secretary, Office of Vocational and Adult Education.

Estimated Burden Statement

According to the Paperwork Reduction Act of 1995, no persons are required to respond to a collection of information unless it displays a valid OMB control number. The valid OMB control number for this information collection is 1830-0551. (Expiration date: 6/30/2004.) The time required to complete this information collection is estimated to average 40 hours per response, including the time to review instructions, search existing data resources, gather the data needed, and complete and review the information collection.

If you have any comments concerning the accuracy of the time estimate(s) or suggestions for improving this grant application, please write to: U.S. Department of Education, Washington, DC 20202-4651.

If you have comments or concerns regarding the status of your individual submission of this grant application, write directly to: Ms. Karen Stratman Clark, Office of Vocational and Adult Education, U.S. Department of Education, 400 Maryland Avenue, SW (Mary E. Switzer Building, Room 5523), Washington, DC 20202-7242.

Appendix A—Definitions

Independent study is self-directed learning linked to a student's curriculum and, if applicable, his or her area of career interest. It may include such activities as internships and student-directed projects.

Integration occurs when academic and occupational or career subject matter—normally offered in separate courses—are taught in a manner that emphasizes relationships among the disciplines. It may take many forms, ranging from the introduction of academics into traditional occupational courses to comprehensive programs that organize all instruction around broad career themes.

Learning and technical skills centers are, for the purpose of this program, any of a variety of high school improvement models that may include schools-within-schools, career academies, houses, or before- or after-school programs that emphasize technical or occupational skills training, including computer literacy.

Low-performing schools are identified by local and State educational agencies using the criteria in Title I, Part A, section 1116(c) of the Elementary and Secondary Education Act. Any Title I school that has not made continuous and sustained academic progress over two years is identified for improvement. For the purpose of this program, States and local educational agencies that have established criteria for identifying such schools may use their criteria to meet the competitive priority.

Project-based learning occurs when learning is tied to the development and completion of a project that is, much like independent study, linked to a student's curriculum and, if applicable, his or her area of career interest.

School-based enterprises are enterprises in which goods or services are produced by students as part of their school program. School-based enterprises typically involve students in the management of a project that may involve the sale of goods for use by others, and may be undertaken on or off the school site.

Secondary school consortia are two or more schools comprising any span of grades beginning with the next grade following middle school and ending with grade 12.

State consortia are, for the purpose of this program, two or more State educational agencies jointly responsible for State-level coordination of projects implemented within their identified local high schools.

State educational agency is the officer or agency primarily responsible for the State supervision of public elementary and secondary schools.

Appendix B—Program Narrative Instructions

Instructions for Program Narrative

The program narrative will comprise the largest portion of your application. This part is where you spell out the who, what, when, why, and how, of your proposed project.

Although you will not have a form to fill out for your narrative, there is a format. This format is based on the selection criteria. Because your application will be reviewed and rated by a review panel on the basis of the selection criteria, your narrative should follow the order and format of the criteria.

Before preparing your application, you should carefully read the legislation and EDGAR regulations governing this program, eligibility requirements, priorities, and the selection criteria for this process.

Your program narrative should be clear, concise, and to the point. The program narrative should be organized in this way:

(1) Begin the narrative with a one page abstract or summary of your project, including a short description of the project's objectives and activities. Provide a short description of the populations to be served in the high schools to whom you anticipate awarding funds.

(2) Include a table of contents listing the parts of the narrative in the order of the selection criteria and the page numbers where the parts of the narrative are found. Be sure to number the pages.

(3) Include the State educational agency's assurance to the Secretary (and requirement for the local educational agencies' assurances to the State) that the State will carry out those activities described in the Required Activities section of this notice.

(4) Describe how the applicant meets the competitive priorities, if applicable.

(5) Describe the project in detail, addressing each selection criterion in order. Do not simply paraphrase the criteria.

(6) If the application is from a State consortium, attach the consortium's agreement delineating the activities each State intends to perform, signed by appropriate authorities for each State educational agency. The agreement must include the designation of one State as the lead applicant.

(7) Applicants may include supporting documentation as appendices to the narrative. This material must be concise and pertinent to the application.

The Secretary strongly suggests that you limit the program narrative to no more than 25 double-spaced, typed pages (on one side only). Be sure to number consecutively ALL pages in your application.

You are advised that—

(a) The Secretary considers only information contained in the application in ranking applications for funding consideration. Letters of support sent separately from the formal application package are not considered in the review by the technical review panels. (34 CFR 75.217)

(b) The technical review panel evaluates each application solely on the basis of the selection criteria contained in this notice.

(c) Letters of support included as appendices to an application, that are of direct relevance to or contain commitments that pertain to the established selection criteria, such as commitment of resources, will be reviewed by the panel. As noted above in paragraph (a), letters of support sent separately from the formal application package are not considered in the review by the technical review panel. (34 CFR 75.217)

Performance Measures

The Government Performance and Results Act of 1993 (GPRA) places new management expectations and requirements on Federal departments and agencies by creating a framework for more effective planning, budgeting, program evaluation, and fiscal accountability for Federal programs. The intent of GPRA is to improve public confidence by holding departments and agencies accountable for achieving program results. Under GPRA, Departments and agencies must clearly describe the goals and objectives of their programs, identify resources and actions needed to accomplish these goals and objectives, develop a means of measuring progress made, and regularly report on their achievement. One important source of program information on successes and lessons learned is the project evaluation conducted under individual grants.

Factors that may be considered in evaluating the success of the program may include:

(1) Percentage of students at participating schools who meet or exceed State-established academic and vocational and technical skill standards;

(2) Number of students receiving technical skills training with integrated academics;

(3) Number of students participating in learning and technical skills centers; and

(4) Number of students participating in independent study via internships, schools-based enterprises, and project-based learning.

As specified in Selection Criterion 4, an evaluation plan must be included in each grant application. The application should describe the plan in detail, including such information as: (1) What types of data will be collected; (2) what instruments will be used; (3) when reports of results and outcomes will become available; and (4) how information will be used by the project to monitor progress and ensure accountability.

Appendix C_Questions and Answers

Potential applicants frequently direct questions to officials of the Department regarding application notices and programmatic and administrative regulations governing various direct grant programs. To assist potential applicants, the Department has assembled the following most commonly asked questions followed by the Department's answers.

Q: Can we get an extension of the deadline?

A: No. A closing date may be changed only under extraordinary circumstances. Any change must be announced in the Federal Register and must apply to all applications. Waivers for individual applications cannot be granted regardless of the circumstances.

Q: How many copies of the application should I submit and must they be bound?

A: Applicants are required to submit one original and three copies of the grant application. To aid with the review of applications, the Department encourages applicants to submit three additional copies of the grant application. The Department will not penalize applicants who do not provide additional copies. Sending applications in notebooks, binders, folders, or other coverings is strongly discouraged.

Q: We just missed the deadline for the High School Reform State Grants competition. May we submit under another competition?

A: Yes, however, the likelihood of success is not good. A properly prepared application must meet the specifications of the competition to which it is submitted.

Q: I'm not sure which competition is most appropriate for my project. What should I do?

A: We are happy to discuss any such questions with you and provide clarification on the unique elements of the various competitions.

Q: Will you help us prepare our application?

A: We are happy to provide general program information. Clearly, it would not be appropriate for staff to participate in the actual writing of an application, but we can respond to specific questions about application requirements, evaluation criteria, and the priorities. Applicants should understand, however, that prior contact with the Department is not required, nor will it in any way influence the success of an application.

Q: When will I find out if I'm going to be funded?

A: You can expect to receive notification as soon as possible after the application closing date, depending on the number of applications received and the number of Department competitions with similar closing dates.

Q: Once my application has been reviewed by the review panel, can you tell me the outcome?

A: No. Every year we are called by a number of applicants who have a legitimate reason for needing to know the outcome of the panel review prior to official notification. Some applicants need to make job decisions, some need to notify a local school district, etc. Regardless of the reason, because final funding decisions have not been made at that point, we cannot share information about the results of panel review with anyone.

Q: Will my application be returned if I am not funded?

A: No. We no longer return unsuccessful applications. Thus, applicants should retain at least one copy of the application.

Q: Can I obtain copies of reviewers' comments?

A: Upon written request, reviewers' comments will be mailed to unsuccessful applicants.

Q: Is travel allowed under these projects?

A: Travel associated with carrying out the project is allowed. Because we may request the project director of funded projects to attend an annual project directors' meeting, you may also wish to include a trip or two to Washington, DC, in the travel budget. Travel to conferences is sometimes allowed when the purpose of the conference will be of benefit and relates to the project.

Q: If my application receives high scores from the reviewers, does that mean that I will receive funding?

A: Not necessarily. It is often the case that the number of applications scored highly by the reviewers exceeds the dollars available for funding projects under a particular competition. The order of selection, which is based on the scores of all the applications reviewed and other relevant factors, determines the applications that can be funded.

Q: What happens during pre-award clarification discussions?

A: During pre-award clarification discussions, technical and budget issues may be raised. These are issues that have been identified during the panel and staff reviews that require clarification. Sometimes issues are stated as “conditions.” These are issues that have been identified as so critical that the award cannot be made unless those conditions are met. Questions may also be raised about the proposed budget. Generally, these issues are raised because an application contains inadequate justification or explanation of a particular budget item, or because the budget item seems unimportant to the successful completion of the project. If you are asked to make changes that you feel could seriously affect the project's success, you may provide reasons for not making the changes or provide alternative suggestions. Similarly, if proposed budget reductions will, in your opinion, seriously affect the project activities, you may explain why and provide additional justification for the proposed expenses. An award cannot be made until all issues under discussion have been resolved.

Q: How do I provide an assurance?

A: Except for SF-424B, “Assurances—Non-Construction Programs,” you may provide an assurance simply by stating in writing that you are meeting a prescribed requirement.

Q: Where can copies of the Federal Register, program regulations, and Federal statutes be obtained?

A: Copies of these materials can usually be found at your local library. If not, they can be obtained from the Government Printing Office by writing to Superintendent of Documents, U.S. Government Printing Office, Washington, DC 20402. Telephone: (202) 708-8228. When requesting copies of regulations or statutes, it is helpful to use the specific name or public law, number of a statute, or part number of a regulation. A copy of the Code of Federal Regulations that contains the Education Department General Administrative Regulations, 34 CFR parts 74, 75, 77, 79, 80, 81, 82, 85, 86, 97, 98, and 99, may be obtained from the Government Printing Office by writing to Superintendent of Documents, P.O. Box 371954, Pittsburgh, PA 15250-7954, or by telephoning (202) 512-1800. It may also be obtained on the internet at: http://www.access.gpo.gov/su_docs, or http://www.access.gpo.gov/nara/cfr.

Federal Register notices can also be accessed on the internet at: http://www.access.gpo.gov/nara/index.html.

Q: Where in the notice does it explain how the required parts of the application should be ordered?

A: The ordering for the required parts of the application is specified in the section of the notice entitled “Application Instructions and Forms.”

Appendix D—Budget Narrative, Forms, and Instructions

Instructions for Budget Narrative

The budget narrative should explain, justify, and, if needed, clarify your budget summary. For each line item (personnel, fringe benefits, travel, etc.) in your budget, explain why it is there and how you computed the costs.

Please limit this section to no more than five pages. Be sure that each page of your application is numbered consecutively.

BILLING CODE 4000-01-P

[FR Doc. 01-15557 Filed 6-19-01; 8:45 am]

BILLING CODE 4000-01-C